DEPARTMENT OF THE TREASURY

Office of Thrift Supervision

[AC-55: OTS Nos. 02620 and H4753]

Wolverine Bank, MI; Approval of Conversion Application

Notice is hereby given that on November 12, 2010, the Office of Thrift Supervision approved the application of Wolverine Bank, Midland, Michigan, to convert to the stock form of organization. Copies of the application are available for inspection by appointment (phone number: (202) 906-5922 or e-mail Public.Info@OTS.Treas.gov) at the Public Reading Room, 1700 G Street, NW., Washington, DC 20552, and the OTS Central Regional Office, 1 South Wacker Drive, Suite 2000, Chicago, Illinois 60606.

Dated: November 16, 2010.
By the Office of Thrift Supervision.
Sandra E. Evans,
Federal Register Liaison.

[FR Doc. 2010-29258 Filed 11-19-10; 8:45 am]

BILLING CODE 6720-01-M